DEPARTMENT OF DEFENSE

Department of the Army

Final Environmental Impact Statement for the Real Property Master Plan at the Presidio of Monterey, CA

AGENCY: Department of the Army, DoD.

ACTION: Notice of availability.

SUMMARY: The Department of the Army announces the availability of the Final Environmental Impact Statement (EIS) for the Real Property Master Plan (RPMP) at the Presidio of Monterey (POM). The Final EIS analyzes and evaluates the potential environmental and socioeconomic impacts associated with proposed development at two properties: the POM and the Ord Military Community (OMC), collectively referred to as the POM Installation.

DATES: The Army will execute a record of decision no earlier than 30 days after publication of the NOA in the Federal Register by the U.S. Environmental Protection Agency.

ADDRESSES: Correspondence or questions regarding the Final EIS should be forwarded to U.S. Army Garrison, Directorate of Public Works, Master Planning Division (Attention: Robert Guidi), P.O. Box 5004, Presidio of Monterey, CA 93944-5004, or emailed to robert.g.guidi.civ@mail.mil. For media inquiries, please contact Daniel Carpenter, Presidio of Monterey Public Affairs, at presidiopao@gmail.com.

FOR FURTHER INFORMATION CONTACT: Mr. Robert Guidi at (831) 242-7928 or via email at robert.g.guidi.civ@mail.mil.

SUPPLEMENTARY INFORMATION: The Proposed Action is intended to meet the ongoing mission requirements of the installation by implementing both short-range and long-range projects. Proposed facility improvements and phased construction are designed to sustain and enhance the professional standards established by the Defense Language Institute Foreign Language Center (DLIFLC). Facilities, construction, improvements, renovations, replacements and upgrades ensure students, faculty, staff, military service members, and their Families would have modern facilities consistent with Army standards well into the 21st Century. The overall goal is to improve the learning environment and quality of life at the POM installation.

The Final EIS identifies proposed development projects to be implemented over a 20-year planning horizon. There is one short-range project (POM Barracks Complex Phase I) scheduled to begin in late 2013. Construction of the long-range projects is projected between 2018 and 2025, extending out to 2030. Long-range projects include barracks, classrooms, other instructional buildings, facilities renovations, access control point (i.e., gates) upgrades, infrastructure modernization and other projects.

Three alternatives are analyzed in the Final EIS:

(1) Alternative 1—POM Centric. Under the POM Centric Alternative (Preferred Alternative), the majority of the proposed projects, such as barracks, classrooms and a dining facility, occur on the POM. Several new support facilities, such as the combined fire and police Emergency Services Center, are planned at the OMC. The Preferred Alternative preserves the centralized campus desired by the DLIFLC.

(2) Alternative 2—POM and OMC. Under the POM and OMC Alternative, new construction is proposed at both locations. Some of the new classrooms and housing facilities are planned at the OMC instead of the POM. New construction is limited to Army-owned land on the OMC and in close proximity to the existing military housing.

(3) No Action. Under the No-Action Alternative, the POM installation continues to operate under the existing but outdated 1983 Master Plan without modern or upgraded facilities. This Alternative provides the environmental baseline conditions for comparing the impacts associated with the other two alternatives.

The Final EIS addresses impacts from implementation of the Proposed Action to 16 resource areas. Impacts range from beneficial to no effect to significant. There could be significant impacts to cultural resources from the long-range projects, which are analyzed in the document at a programmatic level. The POM Installation has conducted and will engage in appropriate consultation under the National Historic Preservation Act. As project planning and design progresses, there could be requirements for supplemental environmental documentation and regulatory compliance, including adoption of mitigation measures. There are less than significant impacts to other resources. The EIS identifies mitigation to lessen the adverse impacts. Several changes to the proposed projects and to the Final EIS result from public and agency comments. These changes lessen the impacts on natural resources. Facilities are also planned to Leadership in Energy and Environmental Design standards to conserve resources.

The U.S. Army plans to issue a Record of Decision following a 30-day waiting period.

Copies of the Final EIS are available at public libraries in the cities of Monterey, Pacific Grove and Seaside, and the Chamberlain Library on the OMC. An electronic version of the Final EIS can be viewed or downloaded from the POM Web site at http://www.monterey.army.mil/DPW/env_assessment.html.

Brenda S. Bowen,
Army Federal Register Liaison Officer.

[FR Doc. 2013-10432 Filed 5-2-13; 8:45 am]

BILLING CODE 3710-08-P